SMALL BUSINESS ADMINISTRATION

Public Federal Regulatory Enforcement Fairness Hearing; U.S. Small Business Administration Region IV Regulatory Fairness Board

The U.S. Small Business Administration (SBA) Region IV Regulatory Fairness Board and the SBA Office of the National Ombudsman will hold a public hearing on Tuesday, September 20, 2005 at 9 a.m. The meeting will take place at the Charlotte Chamber of Commerce, Belk Action Center, 330 South Tryon Street, Charlotte, NC, to receive comments and testimony from small business owners, small government entities, and small non-profit organizations concerning regulatory enforcement and compliance actions taken by federal agencies.

Anyone wishing to attend or to make a presentation must contact Eileen Joyce in writing or by fax, in order to be put on the agenda. Eileen Joyce, Lead Business Development Specialist, SBA, North Carolina District Office, 6302 Fairview Road, #300, Charlotte, NC 28210, phone (704) 344-6787 Extension 1136; fax (704) 344-6769, e-mail: Eileen.joyce@sba.gov

For more information, see our Web site at http://www.sba.gov/ombudsman.

Matthew K. Becker,
Committee Management Officer.

[FR Doc. 05-17111 Filed 8-26-05; 8:45 am]

BILLING CODE 8025-01-M